COMMODITY FUTURES TRADING COMMISSION

Global Markets Advisory Committee

AGENCY: Commodity Futures Trading Commission.

ACTION: Notice of meeting.

SUMMARY: The Commodity Futures Trading Commission (CFTC) announces that on November 21, 2024, from 9:30 a.m. to 10:30 a.m. Eastern Time, the Global Markets Advisory Committee (GMAC or Committee) will hold a virtual public meeting.

At this meeting, the GMAC will hear a presentation from the GMAC's Digital Asset Markets Subcommittee on expanding use of non-cash collateral through use of distributed ledger technology and consider a recommendation from the Subcommittee.

DATES: The meeting will be held on November 21, 2024, from 9:30 a.m. to 10:30 a.m. Eastern Time. Please note that the meeting may end early if the GMAC has completed its business. Members of the public who wish to submit written statements in connection with the meeting should submit them by November 26, 2024.

ADDRESSES: The meeting will take place virtually. You may submit public comments, identified by “Global Markets Advisory Committee,” through the CFTC website at https://comments.cftc.gov. Follow the instructions for submitting comments through the Comments Online process on the website. If you are unable to submit comments online, contact Harry Jung, Designated Federal Officer, via the contact information listed below to discuss alternate means of submitting your comments. Any statements submitted in connection with the committee meeting will be made available to the public, including publication on the CFTC website, https://www.cftc.gov.

FOR FURTHER INFORMATION CONTACT: Harry Jung, GMAC Designated Federal Officer, Commodity Futures Trading Commission, Three Lafayette Centre, 1155 21st Street NW, Washington, DC; (202) 394-3995; or HJung@cftc.gov.

SUPPLEMENTARY INFORMATION: The entire virtual meeting will be open to the public. Registration for this meeting is not required. Members of the public may listen to the meeting by telephone by calling a domestic or international toll or toll-free number to connect to a live, listen-only audio feed. Call-in participants should be prepared to provide their first name, last name, and affiliation.

Domestic Toll and Toll-Free Numbers:

+1 669 254 5252 US (San Jose)

+1 646 828 7666 US (New York)

+1 646 964 1167 US (US Spanish Line)

+1 669 216 1590 US (San Jose)

+1 415 449 4000 US (US Spanish Line)

+1 551 285 1373 US (New Jersey)

833 435 1820 US Toll Free

833 568 8864 US Toll Free

International Numbers are available here: https://cftc-gov.zoomgov.com/u/apUhB8EuL and will be posted on the CFTC's website, https://www.cftc.gov, on the page for the meeting, under Related Links.

Call-In/Webinar ID: 161 533 1062

Pass Code/Pin Code: 990545

Members of the public may also view a live webcast of the meeting via the https://www.cftc.gov website. The meeting agenda may change to accommodate other Committee priorities. For agenda updates and meeting materials, please visit https://www.cftc.gov/About/AdvisoryCommittees/GMAC.

After the meeting, a transcript of the meeting will be published through a link on the CFTC's website, https://www.cftc.gov. Persons requiring special accommodations to attend the meeting because of a disability should notify the contact person above.

(Authority: 5 U.S.C. 1009(a)(2).)

Dated: October 22, 2024.
Robert Sidman,
Deputy Secretary of the Commission.

[FR Doc. 2024-24918 Filed 10-24-24; 8:45 am]

BILLING CODE 6351-01-P